GENERAL SERVICES ADMINISTRATION

Public Buildings Service

[Wildlife Order 185; 7-U-TX-1055]

Matagorda Island Lighthouse Reservation, Matagorda Island, TX Transfer of Property

Pursuant to section 2 of Public Law 537, 80th Congress, approved May 19, 1948 (16 U.S.C. 667c), notice is hereby given that:

1. The General Services Administration transferred 15.29 acres of land and improvements, identified as Matagorda Island Lighthouse Reservation, Matagorda Island, TX to the U.S. Fish and Wildlife Service, Department of the Interior by transfer letter dated May 30, 2000.

2. The above property was conveyed for wildlife conservation in accordance with the provisions of section 1 of Public Law 80-537 (16 U.S.C. 667b), as amended by Public Law 92-432.

Dated: September 22, 2003.
Brian K. Polly,
Assistant Commissioner, Office of Property Disposal.

[FR Doc. 03-26474 Filed 10-20-03; 8:45 am]

BILLING CODE 6820-96-M